DEPARTMENT OF AGRICULTURE

Food and Nutrition Service

7 CFR Parts 210, 220, and 226

[FNS-2011-0029]

RIN 0584-AE18

Child and Adult Care Food Program: Meal Pattern Revisions Related to the Healthy, Hunger-Free Kids Act of 2010; Corrections

AGENCY: Food and Nutrition Service, USDA.

ACTION: Correcting amendments.

SUMMARY: This document contains technical corrections to the final rule published in the Federal Register on April 25, 2016, “Child and Adult Care Food Program: Meal Pattern Revisions Related to the Healthy, Hunger-Free Kids Act of 2010.”

DATES: This document is effective November 1, 2016. Compliance with the provisions of this rule must begin October 1, 2017 except as otherwise noted in the final rule.

FOR FURTHER INFORMATION CONTACT: Andrea Farmer or Laura Carroll, Policy and Program Development Division, Child Nutrition Programs, Food and Nutrition Service, U.S. Department of Agriculture, 3101 Park Center Drive, Room 1206, Alexandria, Virginia 22302-1594; 703-305-2590.

SUPPLEMENTARY INFORMATION: The Food and Nutrition Service (FNS) published a final rule in the Federal Register, 81 FR 24348, on April 25, 2016, to update the meal pattern requirements for the Child and Adult Care Food Program and extended several of the changes to the National School Lunch Program, School Breakfast Program, and Special Milk Program. The final rule included typographical errors in 7 CFR 210.10(a)(1)(i), 220.8(a)(1), 220.8(o)(1), and 220.8(p)(1), the incorrect information for the serving size of yogurt in the infant meal pattern that appears in 7 CFR 210.10(q)(2), 220.8(p)(2), 226.20(b)(4)(ii)(A) and 226.20(b)(5), and a technical error for offer versus serve in 7 CFR 226.20(o). In addition, FNS is correcting the breakfast cereal sugar limit. The final rule provided a sugar limit of no more than 6 grams of sugar per dry ounce (no more than 21 grams sucrose and other sugars per 100 grams of dry cereal). The intent of that limit was to be consistent with the Special Supplemental Nutrition Program for Woman, Infants, and Children (WIC). However, due to rounding, the breakfast cereal sugar limit in the final rule that appears in 7 CFR 210.10(o)(3)(ii), 210.10(o)(4)(ii), 210.10(p)(2), 220.8(o)(2), 226.20(a)(4)(ii), 226.20(b)(5), and 226.20(c)(1) through 226.20(c)(3) is inconsistent with WIC's breakfast cereal sugar limit of no more 21.2 grams of sucrose and other sugars per 100 grams of dry cereal. This correction amends the breakfast cereal sugar limit to align with WIC's breakfast cereal sugar limit and corrects the other errors described above. Note that the Special Milk Program regulations at 7 CFR part 215 were amended in the final rule, but no technical corrections are necessary in this amendment.

List of Subjects

7 CFR Part 210

Children, Commodity School Program, Food assistance programs, Grants programs—social programs, National School Lunch Program, Nutrition, Reporting and recordkeeping requirements, Surplus agricultural commodities.

7 CFR Part 220

Grant programs—education, Grant programs—health, Infants and children, Nutrition, Reporting and recordkeeping requirements, School breakfast and lunch programs.

7 CFR Part 226

Accounting, Aged, American Indians, Day care, Food assistance programs, Grant programs, Grant programs— health, Individuals with disabilities, Infants and children, Intergovernmental relations, Loan programs, Reporting and recordkeeping requirements, Surplus agricultural commodities.

Accordingly, 7 CFR parts 210, 220, and 226 are corrected by making the following correcting amendments:

PART 210—NATIONAL SCHOOL LUNCH PROGRAM

1. The authority citation for part 210 continues to read as follows:

Authority: 42 U.S.C. 1751-1760, 1779.

2. In § 210.10:

a. Revise the fourth sentence in paragraph (a)(1)(i);

b. Revise the table in paragraph (o)(3)(ii);

c. Revise the table in paragraph (o)(4)(ii);

d. Revise the table in paragraph (p)(2); and

e. Revise the table in paragraph (q)(2).

The revisions read as follows:

§ 210.10 Meal requirements for lunches and requirements for afterschool snacks.

(a) * * *

(1) * * *

(i) * * * Schools offering lunches to children ages 1 through 4 and infants must meet the meal pattern requirements in paragraphs (p) and (q), as applicable, of this section. * * *

* * * * *

(o) * * *

(3) * * *

(ii) * * *

(4) * * *

(ii) * * *

(p) * * *

(2) * * *

(q) * * *

(2) * * *

PART 220—SCHOOL BREAKFAST PROGRAM

3. The authority citation for part 220 continues to read as follows:

Authority: 42 U.S.C. 1773, 1779, unless otherwise noted.

4. In § 220.8:

a. Revise the fourth sentence in paragraph (a)(1).

b. Revise paragraph (o)(1);

c. Revise the table in paragraph (o)(2);

d. Revise paragraph (p)(1); and

e. Revise the table in paragraph (p)(2).

The revisions read as follows:

§ 220.8 Meal requirements for breakfasts.

(a) * * *

(1) * * * Schools offering breakfasts to children ages 1 to 4 and infants must meet the meal pattern requirements in paragraphs (o) and (p), as applicable, of this section. * * *

* * * * *

(o) * * *

(1) Breakfasts served to preschoolers. Schools serving breakfast to children ages 1 through 4 under the School Breakfast Program must serve the meal components and quantities required in the breakfast meal pattern established for the Child and Adult Care Food Program under § 226.20(a), (c)(1), and (d) of this chapter. In addition, schools serving breakfasts to this age group must comply with the requirements set forth in paragraphs (a), (c)(3), (g), (k), (l), and (m) of this section as applicable.

(2) * * *

(p) * * *

(1) Breakfasts served to infants. Schools serving breakfasts to infants ages birth through 11 months under the School Breakfast Program must serve the food components and quantities required in the breakfast meal pattern established for the Child and Adult Care Food Program, under § 226.20(a), (b), and (d) of this chapter. In addition, schools serving breakfasts to infants must comply with the requirements set forth in paragraphs (a), (c)(3), (g), (k), (l), and (m) of this section as applicable.

(2) * * *

PART 226—CHILD AND ADULT CARE FOOD PROGRAM

5. The authority citation for part 226 continues to read as follows:

Authority: Secs. 9, 11, 14, 16, and 17, Richard B. Russell National School Lunch Act, as amended (42 U.S.C. 1758, 1759a, 1762a, 1765 and 1766).

6. In § 226.20:

a. Revise the second sentence in paragraph (a)(4)(ii);

b. Amend the first sentence in paragraph (b)(4)(ii)(A) by removing the words “0 to 8 ounces” and adding in their place the words “0 to 4 ounces”;

c. Revise the table in paragraph (b)(5);

d. Revise the table in paragraph (c)(1);

e. Revise the table in paragraph (c)(2);

f. Revise the table in paragraph (c)(3); and

g. Revise paragraph (o).

The revisions read as follows:

§ 226.20 Requirements for meals.

(a) * * *

(4) * * *

(ii) * * * Breakfast cereals must contain no more than 6 grams of sugar per dry ounce (no more than 21.2 grams sucrose and other sugars per 100 grams of dry cereal).

* * * * *

(b) * * *

(5) * * *

(c) * * *

(1) * * *

(2) * * *

(3) * * *

* * * * *

(o) Offer versus serve. (1) Each adult day care center and at-risk afterschool program must offer its participants all of the required food servings as set forth in paragraphs (c)(1) and (c)(2) of this section. However, at the discretion of the adult day care center or at-risk afterschool program, participants may be permitted to decline:

(i) For adults. (A) One of the four food items required at breakfast (one serving of fluid milk; one serving of vegetable or fruit, or a combination of both; and two servings of grains, or meat or meat alternates);

(B) Two of the five food components required at lunch (fluid milk; vegetables; fruit; grain; and meat or meat alternate); and

(C) One of the four food components required at supper (vegetables; fruit; grain; and meat or meat alternate).

(ii) For children. Two of the five food components required at supper (fluid milk; vegetables; fruit; grain; and meat or meat alternate).

(2) In pricing programs, the price of the reimbursable meal must not be affected if a participant declines a food item.

* * * * *

Dated: October 24, 2016.
Telora T. Dean,
Acting Administrator, Food and Nutrition Service.

[FR Doc. 2016-26339 Filed 10-31-16; 8:45 am]

BILLING CODE 3410-30-P